DEPARTMENT OF ENERGY

Federal Energy Regulatory Commission

Combined Notice of Filings #1

Take notice that the Commission received the following electric corporate filings:

Docket Numbers: EC16-146-000.

Applicants: Great Plains Energy, Westar Energy, Inc.

Description: Response of Great Plains Energy Incorporated to each question (except Item 4) of the October 7, 2016 Deficiency Letter.

Filed Date: 11/7/16.

Accession Number: 20161107-5294.

Comments Due: 5 p.m. ET 11/28/16.

Docket Numbers: EC17-19-000.

Applicants: Chisholm View Wind Project II, LLC.

Description: Supplement to October 19, 2016 Application for Authorization Under Section 203 of the Federal Power Act, et al. of Chisholm View Wind Project II, LLC.

Filed Date: 11/4/16.

Accession Number: 20161104-5213.

Comments Due: 5 p.m. ET 11/14/16.

Docket Numbers: EC17-29-000.

Applicants: West Deptford Energy, LLC.

Description: Application for Approval Under Section 203 of the Federal Power Act and Request for Expedited Action of West Deptford Energy, LLC.

Filed Date: 11/7/16.

Accession Number: 20161107-5298.

Comments Due: 5 p.m. ET 11/28/16.

Take notice that the Commission received the following exempt wholesale generator filings:

Docket Numbers: EG17-25-000.

Applicants: Three Peaks Power, LLC.

Description: Notice of Self-Certification of Exempt Wholesale Generator Status of Three Peaks Power, LLC.

Filed Date: 11/8/16.

Accession Number: 20161108-5075.

Comments Due: 5 p.m. ET 11/29/16.

Docket Numbers: EG17-26-000.

Applicants: Fluvanna Wind Energy, LLC.

Description: Fluvanna Wind Energy, LLC submits Notice of Self-Certification of Exempt Wholesale Generator Status.

Filed Date: 11/8/16.

Accession Number: 20161108-5101.

Comments Due: 5 p.m. ET 11/29/16.

Take notice that the Commission received the following electric rate filings:

Docket Numbers: ER10-1819-016; ER10-1817-015; ER10-1818-014; ER10-1820-019.

Applicants: Northern States Power Company, a Minnesota corporation, Northern States Power Company, a Wisconsin corporation, Public Service Company of Colorado, Southwestern Public Service Company.

Description: Notice of Change in Status of Northern States Power Company, a Minnesota corporation, et al.

Filed Date: 11/7/16.

Accession Number: 20161107-5295.

Comments Due: 5 p.m. ET 11/28/16.

Docket Numbers: ER17-61-001.

Applicants: New York Independent System Operator, Inc.

Description: Compliance filing: Compliance Amendment Orders 827 828 tariff revisions to be effective 10/13/2016.

Filed Date: 11/8/16.

Accession Number: 20161108-5105.

Comments Due: 5 p.m. ET 11/29/16.

Docket Numbers: ER17-315-000.

Applicants: Niagara Mohawk Power Corporation.

Description: Notice of Cancellation of Interconnection Service Agreement No. 916 of Niagara Mohawk Power Corporation.

Filed Date: 11/7/16.

Accession Number: 20161107-5288.

Comments Due: 5 p.m. ET 11/28/16.

Docket Numbers: ER17-316-000.

Applicants: New England Power Company.

Description: Notice of Cancellation of Superseded Local Service Agreement No. TSA-NEP-49 of New England Power Company.

Filed Date: 11/7/16.

Accession Number: 20161107-5300.

Comments Due: 5 p.m. ET 11/28/16.

Docket Numbers: ER17-317-000.

Applicants: West Deptford Energy, LLC.

Description: Request for Waiver and for Expedited Consideration of West Deptford Energy, LLC under ER17-317.

Filed Date: 11/7/16.

Accession Number: 20161107-5301.

Comments Due: 5 p.m. ET 11/28/16.

Docket Numbers: ER17-318-000.

Applicants: Three Peaks Power, LLC.

Description: Baseline eTariff Filing: Three Peaks MBR Filing to be effective 11/14/2016.

Filed Date: 11/8/16.

Accession Number: 20161108-5124.

Comments Due: 5 p.m. ET 11/29/16.

Docket Numbers: ER17-319-000.

Applicants: Southern California Edison Company.

Description: § 205(d) Rate Filing: Amendment of LGIA for the Catalina Solar Project to be effective 1/9/2017.

Filed Date: 11/8/16.

Accession Number: 20161108-5086.

Comments Due: 5 p.m. ET 11/29/16.

Docket Numbers: ER17-320-000.

Applicants: ISO New England Inc., New England Power Pool.

Description: ISO New England Inc., et. al. submits Installed Capacity Requirement, Hydro Quebec Interconnection Capability Credits and Related Values for the 2020/2021 Capacity Commitment Period.

Filed Date: 11/8/16.

Accession Number: 20161108-5106.

Comments Due: 5 p.m. ET 11/29/16.

Docket Numbers: ER17-321-000.

Applicants: ISO New England Inc.

Description: ISO New England Inc. submits Informational filing for Qualification in the Forward Capacity Market.

Filed Date: 11/8/16.

Accession Number: 20161108-5108.

Comments Due: 5 p.m. ET 11/23/16.

Docket Numbers: ER17-322-000.

Applicants: Midcontinent Independent System Operator, Inc., Otter Tail Power Company.

Description: § 205(d) Rate Filing: 2016-11-08_SA 2970 Otter Tail Power-Northern States Power FSA (J262/J263) to be effective 10/26/2016.

Filed Date: 11/8/16.

Accession Number: 20161108-5113.

Comments Due: 5 p.m. ET 11/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 8, 2016.
Nathaniel J. Davis, Sr.,
Deputy Secretary.

[FR Doc. 2016-27479 Filed 11-15-16; 8:45 am]

BILLING CODE 6717-01-P